FEDERAL MARITIME COMMISSION

Ocean Transportation Intermediary License Reissuances

Notice is hereby given that the following ocean transportation intermediary licenses have been reissued by the Federal Maritime Commission pursuant to section 19 of the Shipping Act of 1984, as amended by the Ocean Shipping Reform Act of 1998 (46 U.S.C. app. 1718) and the regulations of the Commission pertaining to the licensing of ocean transportation intermediaries, 46 CFR 515.

License No. | Name/address | Date reissued
17662N | Cargozone Trans Corporation, 19550 Dominguez Hills Drive, Rancho Dominguez, CA 90220 | January 11, 2003.
16848N | eKKa Forwarding Inc., 223 Bergen Turnpike, Bldg. 3, Ridgefield Park, NJ 07660 | December 15, 2001.
16996F | UC Bridge Inc., 13353 E. Alondra Blvd., #104, Santa Fe Springs, CA 90670 | November 24, 2002.
4648N | Mega Express, Inc., 6481 Orangethorpe Avenue, #21, Buena Park, CA 90620 | November 18, 2002.
16982NF | GKN Freight Services, Inc., 209 S. Washington Street, Van Wert, OH 45891 | December 27, 2002.
17754N | ADCOM Express, Inc. dba ADCOM Worldwide, 7424 W. 28th Street, Edina, MN 55439 | December 15, 2002.

Sandra L. Kusumoto,
Director, Bureau of Consumer Complaints and Licensing.

[FR Doc. 03-5346 Filed 3-6-03; 8:45 am]

BILLING CODE 6730-01-P